DEPARTMENT OF ENERGY

10 CFR Part 430

[Docket No. EERE-2011-BT-STD-0006]

RIN 1904-AC43

Energy Conservation Program: Availability of the Preliminary Technical Support Document for General Service Fluorescent Lamps and Incandescent Reflector Lamps

Correction

In proposed rule document 2013-04711, appearing on pages 13563-13566 in the issue of Thursday, February 28, 2013, make the following correction:

On page 13563, in the second column, in the sixth paragraph, on the first and second lines, “GSFL-IRL_2011-STD-0006@ee.doe.gov” should read “GSFL-IRL_2011-STD-0006@ee.doe.gov”.

[FR Doc. C1-2013-04711 Filed 3-5-13; 8:45 am]

BILLING CODE 1505-01-D